DEPARTMENT OF AGRICULTURE

Forest Service

Information Collection; Request for Comment; Valuation of Private Forest Ecosystem Services in North Carolina

AGENCY: Forest Service, USDA.

ACTION: Notice; request for comment.

SUMMARY: In accordance with the Paperwork Reduction Act of 1995, the Forest Service is seeking comments from all interested individuals and organizations on a new research study to evaluate the value of the ecosystem benefits provided by private forests in North Carolina to residents of that State.

DATES: Comments must be received in writing on or before January 17, 2006 to be assured of consideration. Comments received after that date will be considered to the extent practicable.

ADDRESSES: Comments concerning this notice should be addressed to Thomas P. Holmes, Forestry Sciences Lab, Southern Research Station, USDA Forest Service, P.O. Box 12254, Research Triangle Park, North Carolina 27709.

Comments also may be submitted via facsimile to (919) 549-4047 or by e-mail to: tholmes@fs.fed.us.

The public may inspect comments received at Forestry Sciences Lab, 3041 Cornwallis Road, Research Triangle Park, North Carolina, 27709 main building reception area during normal business hours. Visitors are encouraged to call ahead to (919) 549-4000 to facilitate entry to the building.

FOR FURTHER INFORMATION CONTACT: Thomas P. Holmes, Southern Research Station, (919) 549-4031. Individuals who use telecommunication devices for the deaf may call the Federal Relay Service at 1-800-877-8339, 24 hours a day, every day of the year, including holidays.

SUPPLEMENTARY INFORMATION: Title: Valuation of Private Forest Ecosystem Services in North Carolina.

OMB Number: 0596-New.

Expiration Date of Approval: N/A.

Type of Request: New.

Abstract: Private forests provide many benefits to the owners of forest land. Trees can be sold to mills that produce lumber or paper products; fuelwood can be sold or used by landowners; and the forest landscape may provide opportunities for landowners to hunt, fish, go walking, observe wildlife, or simply enjoy their privacy. In addition to private benefits, private forests provide ecosystem services to the general public. The public ecosystem services provided by private forests include supplying clean water, protecting wildlife habitat, maintaining populations of a variety of plants, and providing scenic views. Although private forest owners supply ecosystem services that benefit the public, members of the public usually do not have to pay for these services. Because ecosystem services provided by private forests are usually not bought or sold, forest landowners do not have an incentive to produce the amount of ecosystem services that the public demands.

Forest Service and university researchers will collect information from residents of North Carolina about the value of the ecosystem services provided by private forest landowners in the State. The data and analyses will provide information to natural resource managers on the value of ecosystem services provided by private forests and the level of public support for alternative forestry programs that would enhance the supply of forest ecosystem services in the State.

To gather the information, a random sample of people living in North Carolina will be contacted by mail and invited to participate in the study. The mailing will include a cover letter describing the purpose of the study, an information booklet describing current forest conditions and forest management practices in North Carolina, and a questionnaire to determine what the recipient thinks about forestry issues and alternative forestry programs in the State.

The information will be collected by a university survey research center using scientific data collection methods. The information will be analyzed both by university and Forest Service researchers. The data and analyses will be provided to State and federal forest land managers and decision-makers to assist their development and implementation of programs that benefit forest landowners and the general public.

Estimate of Annual Burden: The average annual burden estimated per respondent is 30 minutes.

Type of Respondents: Respondents will be a random sample of heads of households in North Carolina.

Estimated Annual Number of Respondents: The total number of respondents per year is 1,500.

Estimated Annual Number of Responses per Respondent: Only one response per respondent will be requested.

Estimated Total Annual Burden on Respondents: The total annual burden for this information collection, computed as the number of minutes per respondent times the number of respondents, is 750 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: November 3, 2005.
Ann M. Bartuska,
Deputy Chief for Research & Development.

[FR Doc. 05-22900 Filed 11-17-05; 8:45 am]

BILLING CODE 3410-11-P